DEPARTMENT OF COMMERCE

Foreign-Trade Zones Board

[B-53-2015]

Application for Additional Production Authority; The Coleman Company, Inc.; Subzone 119I; (Textile-Based Personal Flotation Devices); Change of Location for Public Hearing

A public hearing has been scheduled for February 24, 2016, at 9:30 a.m., on the application for additional production authority submitted by The Coleman Company, Inc., for activity within Subzone 119I in Sauk Rapids, Minnesota (see 80 FR 79820, December 23, 2015). The location for the hearing has been changed to Room 48019, U.S. Department of Commerce, Hoover Building, 1401 Constitution Avenue NW., Washington, DC 20230.

For further information, contact Pierre Duy at Pierre.Duy@trade.gov or (202) 482-1378.

Dated: February 12, 2016.
Pierre V. Duy,
Acting Executive Secretary.

[FR Doc. 2016-03423 Filed 2-17-16; 8:45 am]

BILLING CODE 3510-DS-P